DEPARTMENT OF DEFENSE

Defense Acquisition Regulations System

48 CFR Parts 204, 212, 216, 217, 237, 252, and Appendix F to Chapter 2

[Docket DARS-2019-0001]

Defense Federal Acquisition Regulation Supplement: Technical Amendments

AGENCY: Defense Acquisition Regulations System, Department of Defense (DoD).

ACTION: Final rule.

SUMMARY: DoD is making needed technical amendments to update the Defense Federal Acquisition Regulation Supplement (DFARS).

DATES: Effective September 13, 2019.

FOR FURTHER INFORMATION CONTACT: Ms. Jennifer L. Hawes, Defense Acquisition Regulations System, OUSD(A&S)DPC(DARS), Room 3B941, 3060 Defense Pentagon, Washington, DC 20301-3060. Telephone 571-372-6115; facsimile 571-372-6094.

SUPPLEMENTARY INFORMATION: This final rule amends the DFARS as follows:

1. All references in DFARS text, clauses, and Appendix F to “Electronic Document Access” are updated to read “Electronic Data Access”.

2. Part 204 heading “Part 204-Administrative Matters” is revised to read “Part 204-Administrative and Information Matters” to align with the Federal Acquisition Regulation. A conforming change is also made to section 212.301 paragraph (f)(ii) heading.

3. Section 212.301 is amended to add paragraph (f)(ii)(B) to correct the electronic Code of Federal Regulation. Paragraph (b)(ii)(B), DFARS clause 252.204-7008, Compliance with Safeguarding Covered Defense Information Controls, was added by publication of interim rule DFARS 2013-D018 in the Federal Register at 80 FR 51739 on August 26, 2015, and finalized by DFARS final rule 2013-D018 published in the Federal Register at 81 FR 72986 on October 21, 2016.

4. Sections 216.605-70 and 237.172 are amended to add a notice to contracting officers to see DFARS Procedures Guidance and Information (PGI) 216.505-70 for guidance regarding minimum labor category qualifications for orders issued under multiple-award services contracts.

5. A cross-reference is corrected in DFARS 217.7402, paragraph (b).

List of Subjects in 48 CFR Parts 204, 212, 216, 217, 237, 252, and Appendix F to Chapter 2

Government procurement.

Jennifer Lee Hawes,
Regulatory Control Officer, Defense Acquisition Regulations System.

Therefore, 48 CFR parts 204, 212, 216, 237, 252, and appendix F to chapter 2 are amended as follows:

1. The authority citation for 48 CFR parts 204, 212, 216, 237, 252, and appendix F to chapter 2 continues to read as follows:

Authority: 41 U.S.C. 1303 and 48 CFR chapter 1.

PART 204—ADMINISTRATIVE AND INFORMATION MATTERS

2. Revise the heading to part 204 to read as set forth above.

204.270-1 [Amended]

3. Amend section 204.270-1 in paragraph (a) by removing “Electronic Document Access” and adding “Electronic Data Access” in its place.

204.802 [Amended]

4. Amend section 204.802 in paragraph (a) by removing “Electronic Document Access” and adding “Electronic Data Access” in its place.

204.1670 [Amended]

5. Amend section 204.1670 by removing “Electronic Document Access” and adding “Electronic Data Access” in its place.

PART 212—ACQUISITION OF COMMERCIAL ITEMS

6. Amend section 212.301 by-

a. Revising the paragraph heading for paragraph (f)(ii); and

b. Adding paragraph (f)(ii)(B).

The revision and addition read as follows:

212.301 —SOLICITATION PROVISIONS AND CONTRACT CLAUSES FOR THE ACQUISITION OF COMMERCIAL ITEMS

* * * * *

(f) * * *

(ii) Part 204-Administrative and Information Matters.

* * * * *

(B) Use the provision at 252.204-7008, Compliance with Safeguarding Covered Defense Information Controls, as prescribed in 204.7304(a).

* * * * *

PART 216—TYPES OF CONTRACTS

7. Amend section 216.505-70 by—

a. Revising the section heading;

b. Designating the text as paragraph (a); and

c. Adding paragraph (b).

The revision and addition read as follows:

216.505-70 Orders under multiple-award contracts.

* * * * *

(b) See PGI 216.505-70 for guidance regarding minimum labor category qualifications for orders issued under multiple-award services contracts.

PART 217—SPECIAL CONTRACTING METHODS

217.7402 [Amended]

8. Amend section 217.7402 in paragraph (b) by removing “paragraph (a)(1), (3), or (4)” and adding “paragraph (a)” in its place.

PART 237—SERVICE CONTRACTING

9. Amend section 237.172 by—

a. Designating the text as paragraph (a); and

b. Adding paragraph (b).

The addition reads as follows.

237.172 Service contracts surveillance.

* * * * *

(b) See PGI 216.505-70 for guidance regarding minimum labor category qualifications for orders issued under multiple award services contracts.

PART 252—SOLICITATION PROVISIONS AND CONTRACT CLAUSES

252.216-7006 [Amended]

10. Amend section 252.216-7006 by—

a. Removing the clause date “MAY (2011)” and adding “(SEP 2019)” in its place; and

b. In paragraph (c)(1), removing “Electronic Document Access” and adding “Electronic Data Access” in its place.

11. Amend appendix F to chapter 2, in part 3, by revising F-301 paragraph (a)(3) introductory text to read as follows:

Appendix F to Chapter 2-Material Inspection and Receiving Report

* * * * *

Part 3 * * *

F-301 Preparation instructions.

(a) * * *

(3) If the contract is in Electronic Data Access (EDA) (DoD's contract repository), then the WAWF system will automatically populate all available and applicable contract data.

* * * * *

[FR Doc. 2019-19567 Filed 9-12-19; 8:45 am]

BILLING CODE 5001-06-P